DEPARTMENT OF TRANSPORTATION

Federal Aviation Administration

14 CFR Part 39

[Docket No. 2002-NM-338-AD]

RIN 2120-AA64

Airworthiness Directives; Bombardier Model DHC-8-102, -103, -106, -201, -202, -301, -311, and -315 Airplanes

AGENCY: Federal Aviation Administration, DOT.

ACTION: Notice of proposed rulemaking (NPRM).

SUMMARY: This document proposes the adoption of a new airworthiness directive (AD) that is applicable to certain Bombardier Model DHC-8-102, -103, -106, -201, -202, -301, -311, and -315 airplanes. This proposal would require inspection of the fitting assemblies located on the vent and scavenge lines routed immediately below the fuel tank access covers on both wings for proper installation, and corrective actions if necessary. This proposal also would require inspection of the stiffeners on the underside of fuel tank access covers on both wings for signs of chafing damage caused by incorrect orientation of the lockwire tail, and removal of damage. This action is necessary to prevent contact between the lockwire pigtail of the fitting and the stiffener located on the inside surface of the fuel access covers of the wings, which could serve as a potential ignition source within the fuel tank if a cover is struck by lightning and result in possible fuel tank explosion. This action is intended to address the identified unsafe condition.

DATES: Comments must be received by January 30, 2004.

ADDRESSES: Submit comments in triplicate to the Federal Aviation Administration (FAA), Transport Airplane Directorate, ANM-114, Attention: Rules Docket No. 2002-NM-338-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2002-NM-338-AD” in the subject line and need not be submitted in triplicate. Comments sent via the Internet as attached electronic files must be formatted in Microsoft Word 97 for Windows or ASCII text.

The service information referenced in the proposed rule may be obtained from Bombardier, Inc., Bombardier Regional Aircraft Division, 123 Garratt Boulevard, Downsview, Ontario M3K 1Y5, Canada. This information may be examined at the FAA, Transport Airplane Directorate, 1601 Lind Avenue, SW., Renton, Washington; or at the FAA, New York Aircraft Certification Office, 1600 Stewart Avenue, Westbury, New York.

FOR FURTHER INFORMATION CONTACT: Sarbhpreet Singh Sawhney, Aerospace Engineer, Airframe and Propulsion Branch, ANE-171, FAA, New York Aircraft Certification Office, 1600 Stewart Avenue, Westbury, New York 11590; telephone (516) 228-7340; fax (516) 794-5531

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-338-AD.” The postcard will be date stamped and returned to the commenter.

Availability of NPRMs

Any person may obtain a copy of this NPRM by submitting a request to the FAA, Transport Airplane Directorate, ANM-114, Attention: Rules Docket No. 2002-NM-338-AD, 1601 Lind Avenue, SW., Renton, Washington 98055-4056.

Discussion

Transport Canada Civil Aviation (TCCA), which is the airworthiness authority for Canada, notified the FAA that an unsafe condition may exist on certain Bombardier Model DHC-8-102, -103, -106, -201, -202, -301, -311, and -315 airplanes. TCCA advises that it has received a report of a contact condition between the lockwire pigtail of a particular fitting and the stiffener located on the inside surface of a wing fuel access cover. Investigation revealed that these particular fittings were installed facing the outboard side of the wing, rather than the inboard side. This condition, if not corrected, could result in contact between the lockwire pigtail of the fitting and the stiffener located on the inside surface of the fuel access covers of the wings. Such contact could serve as a potential ignition source within the fuel tank if a cover is struck by lightning, which could result in possible fuel tank explosion.

Explanation of Relevant Service Information

Bombardier has issued Alert Service Bulletin A8-28-33, Revision “A,” dated October 10, 2002, which describes the following procedures:

• A general visual inspection to verify proper installation of the fitting assemblies and lockwire located on the vent and scavenge lines routed immediately below the fuel tank access covers on both wings, and corrective actions if necessary. These corrective actions include changing the orientation of the fitting assembly; performing a general visual inspection of the O-ring for damage; replacing any damaged O-ring with a new O-ring; and replacing the lockwire with a new lockwire if necessary.

• A general visual inspection of the stiffeners on the underside of fuel tank access covers on both wings for signs of chafing damage caused by incorrect orientation of the lockwire tail, and removal of damage.

Accomplishment of the actions specified in the service bulletin is intended to adequately address the identified unsafe condition. TCCA classified this service bulletin as mandatory and issued Canadian airworthiness directive CF-2002-44, dated October 22, 2002, in order to assure the continued airworthiness of these airplanes in Canada.

FAA's Conclusions

This airplane model is manufactured in Canada and is type certificated for operation in the United States under the provisions of section 21.29 of the Federal Aviation Regulations (14 CFR 21.29) and the applicable bilateral airworthiness agreement. Pursuant to this bilateral airworthiness agreement, TCCA has kept the FAA informed of the situation described above. The FAA has examined the findings of TCCA, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletin described previously, except as discussed below.

Difference Between Proposed Rule and Referenced Service Bulletin/Canadian Airworthiness Directive

Although the service bulletin specifies that operators may contact the manufacturer for disposition of certain damage conditions, this proposal would require operators to remove the damage per a method approved by either the FAA or the TCCA (or its delegated agent). In light of the type of removal that would be required to address the unsafe condition, and consistent with existing bilateral airworthiness agreements, we have determined that, for this proposed AD, removal of damage approved by either the FAA or TCAA would be acceptable for compliance with this proposed AD.

Operators should note that, although the Canadian airworthiness directive and the Accomplishment Instructions of the referenced service bulletin describe procedures for reporting inspection findings to the airplane manufacturer, this proposed AD would not require those actions. The FAA does not need this information from operators.

Cost Impact

The FAA estimates that 172 airplanes of U.S. registry would be affected by this proposed AD, that it would take approximately 1 work hour per airplane to accomplish the proposed inspections, and that the average labor rate is $65 per work hour. Based on these figures, the cost impact of the proposed AD on U.S. operators is estimated to be $11,180, or $65 per airplane.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Bombardier, Inc. (Formerly de Havilland, Inc.): Docket 2002-NM-338-AD.

Applicability: Model DHC-8-102, -103, -106, -201, -202, -301, -311, and -315 airplanes, serial numbers 003 through 586 inclusive; certificated in any category.

Compliance: Required as indicated, unless accomplished previously.

To prevent contact between the lockwire pigtail of the fitting and the stiffener located on the inside surface of the fuel access covers of the wings, which could serve as a potential ignition source within the fuel tank if a cover is struck by lightning and result in possible fuel tank explosion, accomplish the following:

Inspection of Fitting Assemblies and Lockwire

(a) Within 12 months after the effective date of this AD, do a general visual inspection to verify proper installation of the fitting assemblies and the lockwire located on the vent and scavenge lines routed immediately below the fuel tank access covers on both wings by accomplishing all the actions specified in Part A of the Accomplishment Instructions of Bombardier Alert Service Bulletin A8-28-33, Revision “A,” dated October 10, 2002. Do the actions per the service bulletin.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Corrective Actions for Any Improperly Installed Fitting Assembly or Lockwire

(b) If any fitting assembly is found to be improperly installed during the general visual inspection required by paragraph (a) of this AD, before further flight, do the actions specified in paragraphs (b)(1) and (b)(2) of this AD per Part A of the Accomplishment Instructions of Bombardier Alert Service Bulletin A8-28-33, Revision “A,” dated October 10, 2002.

(1) Change the orientation of the fitting assembly.

(2) Perform a general visual inspection of the O-ring for damage, and replace any damaged O-ring with a new O-ring.

(c) If any lockwire is found to be improperly installed during the general visual inspection required by paragraph (a) of this AD, before further flight, replace the lockwire with a new lockwire, per Part A of the Accomplishment Instructions of Bombardier Alert Service Bulletin A8-28-33, Revision “A,” dated October 10, 2002.

Inspection of the Stiffeners

(d) Within 12 months after the effective date of this AD, do a general visual inspection of the stiffeners on the underside of fuel tank access covers on both wings for signs of chafing damage caused by incorrect orientation of the lockwire tail, per Part B of the Accomplishment Instructions of Bombardier Alert Service Bulletin A8-28-33, Revision “A,” dated October 10, 2002.

Corrective Action for Chafing Damage

(e) If any chafing damage is found during the general visual inspection required by paragraph (d) of this AD, before further flight, remove the damage per Part B of the Accomplishment Instructions of Bombardier Alert Service Bulletin A8-28-33, Revision “A,” dated October 10, 2002, except where the service bulletin recommends contacting Bombardier for damage in excess of the given limits, before further flight, repair per a method approved by either the Manager, New York Aircraft Certification Office (ACO), FAA; or the Transport Canada Civil Aviation (TCCA) (or its delegated agent).

Exception to Service Bulletin Reporting

(f) Although the service bulletin referenced in this AD specifies to report inspection findings to the airplane manufacturer, this AD does not include such a requirement.

Alternative Methods of Compliance

(g) In accordance with 14 CFR 39.19, the Manager, New York Aircraft Certification Office (ACO), FAA, is authorized to approve alternative methods of compliance for this AD.

Note 2: The subject of this AD is addressed in Canadian airworthiness directive CF-2002-44, dated October 22, 2002.

Issued in Renton, Washington, on December 19, 2003.
Ali Bahrami,
Acting Manager, Transport Airplane Directorate, Aircraft Certification Service.

[FR Doc. 03-32133 Filed 12-30-03; 8:45 am]

BILLING CODE 4910-13-P